DEPARTMENT OF COMMERCE

National Oceanic and Atmospheric Administration

15 CFR Part 902

50 CFR Part 679

[Docket No. 120416007-2464-01]

RIN 0648-BB67

Fisheries of the Exclusive Economic Zone Off Alaska; Monitoring and Enforcement Requirements in the Bering Sea and Aleutian Islands Freezer Longline Fleet; Correction

AGENCY: National Marine Fisheries Service (NMFS), National Oceanic and Atmospheric Administration (NOAA), Commerce.

ACTION: Final rule; correction.

SUMMARY: NMFS is correcting a final rule that published on September 26, 2012, modifying equipment and operational requirements for freezer longliners (catcher/processors) named on License Limitation Program (LLP) licenses endorsed to catch and process Pacific cod at sea with hook-and-line gear in the Bering Sea and Aleutian Islands Management Area (BSAI). This final rule removes Western Alaska Community Development Quota (CDQ) collection-of-information requirements under OMB control number 0648-0269 for the alternative fishing plan and its public reporting burden per response of 4 hours, because the alternative fishing plan regulations are no longer necessary.

DATES: Effective October 17, 2012, and is applicable beginning October 26, 2012.

FOR FURTHER INFORMATION CONTACT: Patsy A. Bearden, 907-586-7008.

SUPPLEMENTARY INFORMATION:

Need for Correction

In the final rule modifying equipment and operational requirements for freezer longliners published September 26, 2012, NMFS inadvertently omitted a paragraph in the classification section that addresses OMB Control Number 0648-0269 collection-of-information requirements associated with regulations removed by the final rule.

The final rule removed the regulations at § 679.32(e)(3) that allow CDQ groups to propose to NMFS an alternative fishing plan to use only one observer where two are required, to sort and weigh catch by species on processor vessels, or to use larger sample sizes than those that can be collected by one observer. The final rule standardized the observer coverage and catch monitoring options for longline catcher/processors in both the CDQ and non-CDQ fisheries because the monitoring and enforcement challenges in these fisheries are similar. Because the final rule standardized observer coverage requirements between the CDQ and non-CDQ fisheries, the alternative fishing plan regulations were no longer necessary. All of the language in the regulatory text and preamble text was correct. However, the notice of the removal of the collection-of-information requirements under the Office of Management and Budget control number 0648-0269 was inadvertently omitted from the final rule. This notice corrects that omission.

Correction

In rule document 2012-23721 published on September 26, 2012, (77 FR 59053) make the following correction:

1. On page 59059, in column 1, after heading OMB Control No. 0648-0213 and following the paragraph, insert the following heading and text:

“OMB Control No. 0648-0269

This final rule removes collection-of-information requirements subject to the Paperwork Reduction Act (PRA) and which have been approved by the Office of Management and Budget (OMB) under Control Number 0648-0269. The collection-of-information requirement, “alternative fishing plan” and its public reporting burden per response of 4 hours, will be removed from the collection because the alternative fishing plan regulations are no longer necessary.”

Authority: 16 U.S.C. 773 et seq.; 1801 et seq.; 3631 et seq.; Pub. L. 108-447; 44 U.S.C. 3501 et seq.

Dated: October 11, 2012.
Alan D. Risenhoover,
Director, Office of Sustainable Fisheries, performing the functions and duties of the Deputy Assistant Administrator for Regulatory Programs, National Marine Fisheries Service.

[FR Doc. 2012-25567 Filed 10-16-12; 8:45 am]

BILLING CODE 3510-22-P